MILLENNIUM CHALLENGE COPORATION

[MCC FR 18-07]

Millennium Challenge Corporation Advisory Council Notice of Open Meeting

AGENCY: Millennium Challenge Corporation.

ACTION: Notice.

SUMMARY: The Millennium Challenge Corporation Advisory Council will hold its spring meeting on April 17 2018. See SUPPLEMENTARY INFORMATION for agenda and other information.

DATES: The meeting will take place on April 17, 2018, from 9 a.m. to 2 p.m. EST which includes a working lunch.

ADDRESSES: The meeting will be held at the Millennium Challenge Corporation 1099 14th St. NW, Suite 700 Washington, DC 20005.

FOR FURTHER INFORMATION CONTACT: Beth Roberts at MCCAdvisoryCouncil@mcc.gov or 202-521-3600 or visit https://www.mcc.gov/about/org-unit/advisory-council.

SUPPLEMENTARY INFORMATION: In accordance with the requirements of the Federal Advisory Committee Act, 5 U.S.C.—App., the Millennium Challenge Corporation (MCC) Advisory Council was established as a discretionary advisory committee on July 14, 2016, to serve MCC in a solely advisory capacity and provide insight regarding innovations in infrastructure, technology and sustainability; perceived risks and opportunities in MCC partner countries; new financing mechanisms for developing country contexts; and shared value approaches. The Advisory Council provides a platform for systematic engagement with the private sector and other external stakeholders and contributes to MCC's mission—to reduce poverty through sustainable, economic growth.

Agenda: During the spring 2018 meeting of the MCC Advisory Council, members will discuss with MCC leadership the best ways to engage the private sector in MCC's on-going work around the world. The Council will also provide advice on ways MCC can leverage its compacts through blended finance approaches, and share their guidance on MCC's threshold program in Kosovo. Guest speaker, Erin Walsh, Assistant Secretary of Commerce for Global Markets and Director General of the U.S. and Foreign Commercial Service will discuss with the Council ongoing coordination between MCC and the U.S. Department of Commerce to maximize private sector engagement in MCC's portfolio.

Public Participation: The meeting will be open to the public. Members of the public may file written statement(s) before or after the meeting. If you plan to attend, please submit your name and affiliation no later than Monday, April 9, to MCCAdvisoryCouncil@mcc.gov to be placed on an attendee list.

Jeanne M. Hauch,
VP/General Counsel and Corporate Secretary, Millennium Challenge Corporation.

[FR Doc. 2018-06275 Filed 3-28-18; 8:45 am]

BILLING CODE 9211-03-P